DEPARTMENT OF HOMELAND SECURITY

Transportation Security Administration

Revision of Agency Information Collection Activity Under OMB Review: Transportation Security Officer (TSO) Medical Questionnaire

AGENCY: Transportation Security Administration, DHS.

ACTION: 30-Day notice.

SUMMARY: This notice announces that the Transportation Security Administration (TSA) has forwarded the Information Collection Request (ICR), Office of Management and Budget (OMB) control number 1652-0032, abstracted below to OMB for review and approval of a revision of the currently approved collection under the Paperwork Reduction Act (PRA). The ICR describes the nature of the information collection and its expected burden. The collection involves using a questionnaire to collect medical information from candidates for the job of Transportation Security Officer (TSO) to ensure their qualifications to perform TSO duties pursuant to sec. 111 of the Aviation and Transportation Security Act (ATSA).

DATES: Send your comments by April 26, 2019. A comment to OMB is most effective if OMB receives it within 30 days of publication.

ADDRESSES: Interested persons are invited to submit written comments on the proposed information collection to the Office of Information and Regulatory Affairs, OMB. Comments should be addressed to Desk Officer, Department of Homeland Security/TSA, and sent via electronic mail to dhsdeskofficer@omb.eop.gov.

FOR FURTHER INFORMATION CONTACT: Christina A. Walsh, TSA PRA Officer Information Technology (IT), TSA-11, Transportation Security Administration, 601 South 12th Street, Arlington, VA 20598-6011; telephone (571) 227-2062; email TSAPRA@tsa.dhs.gov.

SUPPLEMENTARY INFORMATION: TSA published a Federal Register notice, with a 60-day comment period soliciting comments, of the following collection of information on December 6, 2018, 83 FR 62879.

Comments Invited

In accordance with the Paperwork Reduction Act of 1995 (44 U.S.C. 3501 et seq.), an agency may not conduct or sponsor, and a person is not required to respond to, a collection of information unless it displays a valid OMB control number. The ICR documentation will be available at http://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Consistent with the requirements of Executive Order (E.O.) 13771, Reducing Regulation and Controlling Regulatory Costs, and E.O. 13777, Enforcing the Regulatory Reform Agenda, TSA is also requesting comments on the extent to which this request for information could be modified to reduce the burden on respondents.

Information Collection Requirement

Title: Transportation Security Officer (TSO) Medical Questionnaire.

Type of Request: Revision of a currently approved collection.

OMB Control Number: 1652-0032.

Forms(s): Transportation Security Officer Medical Questionnaire.

Affected Public: Applicants for employment as a TSO with TSA.

Abstract: TSA currently collects relevant medical information from TSO candidates for the purpose of assessing whether the candidates meet the medical qualification standards the agency has established pursuant to ATSA (49 U.S.C. 44935). TSA collects this information through a medical questionnaire completed by TSO candidates. The medical questionnaire form evaluates a candidate's physical and medical qualifications to be a TSO, including visual and aural acuity, physical coordination, and motor skills. TSA is revising the collection to no longer collect additional information through the further evaluation forms completed by TSO candidates' health care providers.

Number of Respondents: 22,500.

Estimated Annual Burden Hours: An estimated 37,125 hours annually.

Dated: March 21, 2019.
Christina A. Walsh,
TSA Paperwork Reduction Act Officer, Information Technology.

[FR Doc. 2019-05780 Filed 3-26-19; 8:45 am]

BILLING CODE 9110-05-P